DEPARTMENT OF ENERGY

Federal Energy Regulatory Commission

[Docket No. ER05-570-001]

Hot Spring Power Company, LP; Notice Shortening Comment Period

March 4, 2005.

On February 28, 2005, the Commission issued a Notice of Filing regarding a supplement to an application that Hot Spring Power Company, LP (Hot Spring) filed on February 23, 2005, in Docket No. ER05-570-001. Hot Spring's application requests authorization to make wholesale sales of electric energy, capacity, and ancillary services at market-based rates, to reassign transmission capacity, and to resell firm transmission rights. The February 28 Notice of Filing established March 16, 2005, as the date by which to file comments, protests, or interventions. By this notice, the time for filing comments, protests, or interventions is shortened to and including March 11, 2005.

Magalie R. Salas,
Secretary.

[FR Doc. E5-1046 Filed 3-11-05; 8:45 am]

BILLING CODE 6717-01-P